DEPARTMENT OF HEALTH AND HUMAN SERVICES

Centers for Disease Control and Prevention

[60 Day-03-65]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Pilot Study for the National Survey of the Mining Population—NEW—National Institute for Occupational Safety and Health (NIOSH), Centers for Disease Control and Prevention (CDC).

Surveillance of occupational injuries, illnesses, and exposures has been an integral part of the work of the National Institute for Occupational Safety and Health (NIOSH) since its creation by the Occupational Safety and Health Act in 1970. To improve its surveillance capability related to the occupational risks in mining, NIOSH is planning to conduct a national survey of mines and mine employees. No national surveys have specifically targeted the mining labor force since the 1986 Mining Industry Population Survey (MIPS). The mining industry has experienced many changes in the last 17 years; consequently, the MIPS data are no longer representative of the current mining industry labor force.

The proposed survey will be based upon a probability sample of mining operations and their employees. The major objectives of the survey will be: (1) To collect basic information about the mining operation; (2) to establish the demographic and occupational characteristics of mine operator employees within each major mining sector (coal, metal, nonmetal, stone, and sand and gravel); and (3) to determine the number and occupational characteristics of independent contractor employees within mines. The sampled mining operations will provide all survey data; individual operator and independent contractor employees will not be directly surveyed. As a result of this survey, surveillance researchers and government agencies such as the Mine Safety and Health Administration (MSHA) will be able to identify groups of miners with a disproportionately high risk of injury or illness. By capturing demographic (e.g., age, gender, race/ethnicity, education level) and occupational characteristics (e.g., job, title, work location, experience in this job title, total mining experience) of the mining workforce, these data will be of use in the customization of interventions such as safety training programs.

Prior to implementing the full-scale survey, NIOSH is planning to conduct a Pilot Study to evaluate the effectiveness of the survey recruitment materials, questionnaires, and procedures in the acquisition of complete and high quality data from a sample of mining operations. Data captured in the Pilot Study will guide improvements to optimize the performance of the various components of the full-scale national survey. Approximately 40 randomly selected mining operations spanning the five major mining commodities will be chosen for the Pilot Study. A survey packet will be sent to each sampled mining operation. It is expected that approximately 30 mining operations will be eligible to participate in and will respond to the Pilot Study. A portion of the survey responders and all non-responders will be asked a short number of debriefing questions by telephone. There will be no cost to respondents.

Respondents | Number of respondents | Number of responses per respondent | Average burden per response (in hours) | Total burden (in hours)
Mining Operations Participating in Pilot Study | 30 | 1 | 90/60 | 45
Mining Operations Responding to Debriefing Questions | 23 | 1 | 5/60 | 2
Total |  |  |  | 47

Dated: May 1, 2003.
Thomas Bartenfeld,
Acting Associate Director for Policy, Planning and Evaluation, Centers for Disease Control and Prevention.

[FR Doc. 03-11419 Filed 5-7-03; 8:45 am]

BILLING CODE 4163-18-P